DEPARTMENT OF AGRICULTURE

Agricultural Research Service

Notice of Intent To Seek Renewal of an Information Collection

AGENCY: Agricultural Research Service, USDA.

ACTION: Notice and request for comments.

SUMMARY: In accordance with the Paperwork Reduction Act of 1995 and applicable regulations of the Office of Management and Budget (OMB), this notice announces the intention of the Agricultural Research Service (ARS) to seek reinstatement of the ARS Animal Health National Program Assessment Survey. This voluntary information collection will give the beneficiaries of ARS research the opportunity to provide input on the impact of research conducted by ARS in the last national program cycle for each respective national program. This input will be used in planning the research agenda for the next 5-year program cycle.

DATES: Comments must be received by July 1, 2019 to be assured of consideration.

ADDRESSES: Address all comments concerning this notice to Ms. Janice Boarman, Program Analyst, Agricultural Research Service, Office of National Programs, 5601 Sunnyside Avenue, Room 4-2116, Beltsville, Maryland 20705. Submit electronic comments to Janice.Boarman@ars.usda.gov.

FOR FURTHER INFORMATION CONTACT: Ms. Janice Boarman at (301) 504-4764.

SUPPLEMENTARY INFORMATION:

Title: ARS Animal Health National Program Assessment Evaluation Form.

OMB Number: 0518-0042.

Expiration Date: June 30, 2019.

Type of Request: Approval to seek reinstatement of the ARS Animal Health National Program Assessment Survey. This voluntary information collection will give the beneficiaries of ARS research the opportunity to provide input on the impact of research conducted by ARS in the last national program cycle for each respective national program. This survey seeks input from the beneficiaries of research conducted by ARS for program planning and helps ensure alignment of the ARS national programs with the needs of its customers, partners, and stakeholders.

Abstract: ARS research covers the span of nutrition, food safety and quality, animal and plant production and protection, and natural resources and sustainable agricultural systems. It is organized into fifteen national programs that address specific areas of this research. These national programs serve to bring coordination, communication, and empowerment to approximately 690 research projects carried out by ARS and focus on the relevance, impact, and quality of ARS research. The requested voluntary electronic evaluation survey will give the beneficiaries of ARS research the opportunity to provide input on the impact of several ARS national programs. For the purpose of this National Program Assessment, impact is defined as research that has influenced or will significantly influence the area covered by the national program; has created or will create information, best practices, and/or economic opportunities for the national program's customers, partners, and stakeholders; or has enabled or will enable action and regulatory agencies to formulate policies and regulations to support American agriculture. The report and evaluation form will be available online through a dedicated URL. The input provided through the completion of the evaluation form will be shared with customers, partners, and stakeholders as part of each national program assessment process.

ARS has fifteen national programs, each of which is assessed every 5 years on a rotating basis as part of the ARS national program planning cycle to ensure the relevance, quality, and impact of ARS research. The assessment serves as both a retrospective evaluation and as the foundation for future priority setting for the Agency. Although the exact process for an assessment varies by the nature of the national program, all assessments include the following four stages:

• An in-house program assessment and document review of accomplishments and/or progress for presentation to external reviewers;

• An external review of accomplishments and/or progress based on the preceding documentation review and focused on the relevance, quality, and impact of the research;

• Record the results of the review; and

• Inform ARS leadership of the evaluation results.

All the methodologies for an assessment include developing a written report of accomplishments from research conducted during the previous 5 years. One assessment method involves sending the accomplishment report to a broad group of informed stakeholders and asking them to respond by completing an online survey about the impact of the national program. This survey information is then compiled into a report that can be shared with stakeholders and ARS Administrators. The survey information can also be used for the next step of the national program planning cycle, which entails planning for the following 5 years.

This survey previously has been used by only one ARS national program, but interest in its use has expanded. Three national programs will use the survey within the 3-year information collection period, which has been included in the burden hour estimate. Because the ARS national program planning cycle is 5 years in length and is staggered among national programs, only one or two national programs will be using the survey in any given year. The survey consists of a set of questions used in common by several or all national programs and a few questions specific to a given national program.

Estimate of Burden: Completing the electronic evaluation form is estimated to average 15 minutes per response.

Estimated Number of Respondents: 600.

Estimated Number of Responses per Respondent: 1.

Estimated Total Annual Burden on Respondents: 150 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the input provided by a wide array of customers, and; (d) ways to minimize the burden of the collection of information on those who respond, including the use of appropriate automated, electronic, mechanical, or other technology. Comments should be sent to the address in the preamble. All responses to this notice will be summarized and included in the request for OMB approval. All comments will become a matter of public record.

Dated: April 3, 2019.
Simon Y. Liu,
Associate Administrator, ARS.

[FR Doc. 2019-08690 Filed 4-29-19; 8:45 am]

BILLING CODE 3410-03-P